DEPARTMENT OF THE INTERIOR

National Park Service

[2253-665]

Notice of Intent To Repatriate Cultural Items: University of Pennsylvania Museum of Archaeology and Anthropology, Philadelphia, PA

AGENCY: National Park Service, Interior.

ACTION: Notice.

Notice is here given in accordance with the Native American Graves Protection and Repatriation Act (NAGPRA), 25 U.S.C. 3005, of the intent to repatriate cultural items in the possession of the University of Pennsylvania Museum of Archaeology and Anthropology, Philadelphia, PA, that meet the definitions of sacred objects and/or objects of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The eight Tlingit objects are one wooden box drum (catalogue number NA6828); one hide robe (catalogue number NA6829); two carved wooden masks (catalogue numbers NA6831 and NA6832); one carved wooden headdress (catalogue number NA6835); one head cover (catalogue number NA6836); one carved wooden rattle (catalogue number NA6845); and one carved wooden pipe (catalogue number NA6862).

The first cultural item is a drum (NA6828) made of two pieces of cedar wood, called Old-Man-of-War Box Drum. One narrow side is carved to represent the “old-man-of-war” and the opposing side is open; the broad sides are painted in geometric figures in red and black. The drum measures approximately 65.0 cm long, 32.0 cm wide and 85.0 cm high.

The second cultural item is a robe (NA6829) made from three panels of caribou hide sewn together, called the Lituya Bay Robe. The seams are fringed and the top and sides are trimmed with marten fur. The imagery on the robe is painted with black and red, and either yellow or white pigment. The central figure of the image represents a rock in Lituya Bay and two side images represent rapids. The robe measures approximately 157.0 cm wide and 127.0 cm long.

The third cultural item is a mask (NA6831) that consists of carved wood painted with red, black and white pigment, representing a tree stump, and called the Owl-of-the Heavens. On the top of the stump sits a taxidermic owl that can be moved by the performer wearing the mask. The mask measures approximately 24.5 cm high and 20.5 cm wide.

The fourth cultural item is a mask (NA6832), called Commander-of-the-Tides. The face is painted with red and black pigmented designs representing feathers, and includes actual bird feathers crowning the mask and a wide leather band at the back. The eyes are movable and made to represent the movements of the changing ocean tides. The mask measures approximately 35.0 cm high and 24.0 cm wide.

The fifth cultural item is a headdress or shakee.at (NA6835), called Little Ravine, after a passageway over a sand mount at Dry Bay, near Yakutat. It is elaborately carved with multiple figures painted with red, black and blue-green pigment, and ornamented with abalone, ermine fur, eagle down and feathers. The carving represents an episode of the Raven's Journey that took place near the sand mount. The headdress measures approximately 53.0 cm high and 22.0 cm wide.

The sixth cultural item is a head cover (NA6836) formed from a corner piece of a Chilkat blanket made of twisted wild mountain goat wool. A piece of red felt was added as a border and a second small piece of red felt covers the lower front of the head cover. The head cover is ornamented with mountain goat hair and a fox tail. A carved wooden figure, painted with black, red and blue-green pigment, and representing the Raven, is positioned at the top front of the head cover. The head cover measures approximately 31.8 cm high and 21.6 cm long.

The seventh cultural item is a rattle (NA6845) carved to represent a loon, with a recumbent human figure and a raven's head on top. It is painted with black, red and blue-green pigment. The rattle measures approximately 32.5 cm long, 7.7 cm wide and 9.5 cm high.

The eighth cultural item is a tobacco pipe (NA6862) carved with a representation of a spirit or animal, which remains unidentified. It is painted with blue pigment at the base only and a metal strip, probably copper, is attached around the opening of the bowl. The pipe is large, measuring approximately 20.0 cm high and 14.5 cm wide.

In 1924, Louis Shotridge, a Tlingit Curator employed by the University of Pennsylvania Museum, purchased the eight objects as part of a collection of 49 objects, which are represented by 38 catalogue numbers, referred to as the “Snail House Collection,” for $500.00 from a Tlingit individual, Archie White (Dimitri Tukk'axaaw), the Mt. Fairweather/Snail House headmaster of the T'akdeintaan Clan of Hoonah, AK, for the collections of the University of Pennsylvania Museum.

The cultural affiliation of the eight cultural items is with the Tlingit T'akdeintaan Clan of Hoonah, AK, as indicated through museum records, and by consultation evidence presented by the Hoonah Indian Association, a Federally-recognized Indian Tribe, and the Huna Heritage Foundation, a non-Federally recognized Indian group, acting on behalf of the Huna Totem Corporation and the Tlingit T'akdeintaan Clan of Hoonah, AK.

Based on consultation, museum documentation, anthropological literature, and expert opinion, six of the cultural items are considered to be sacred objects, one is considered to be an object of cultural patrimony, and one is considered to be both an object of cultural patrimony and sacred object. The six cultural items that are sacred objects are the two carved wooden masks (NA6831 and NA6832); the headdress (NA6835); the head cover (NA6836); the carved wooden rattle (NA6845); and the carved wooden pipe (NA6862). The cultural item that is considered an object of cultural patrimony is the wooden box drum (NA6828). Lastly, the cultural item that is considered to be both a sacred object and an object of cultural patrimony is the hide robe (NA6829).

Officials of the University of Pennsylvania Museum of Archaeology and Anthropology have determined, pursuant to 25 U.S.C. 3001(3)(C), seven cultural items described above are specific ceremonial objects needed by traditional Native American religious leaders for the practice of traditional Native American religions by their present-day adherents. Officials of the University of Pennsylvania Museum of Archaeology and Anthropology also have determined, pursuant to 25 U.S.C. 3001(3)(D), two cultural items described above have ongoing historical, traditional, or cultural importance central to the Native American group or culture itself, rather than property owned by an individual. Lastly, officials of the University of Pennsylvania Museum of Archaeology and Anthropology have determined, pursuant to 25 U.S.C. 3001(2), there is a relationship of shared group identity that can be reasonably traced between the sacred objects and the objects of cultural patrimony and the Hoonah Indian Association, a Federally-recognized Indian Tribe, and the Tlingit T'akdeintaan Clan of Hoonah, AK.

Representatives of any other Indian Tribe that believes itself to be culturally affiliated with the sacred objects and/or objects of cultural patrimony should contact Dr. Richard Hodges, Director, University of Pennsylvania Museum of Archaeology and Anthropology, 3260 South St., Philadelphia, PA 19104-6324, telephone (215) 898-4050, before January 13, 2011. Repatriation of the sacred objects and objects of cultural patrimony to the Hoonah Indian Association, a Federally-recognized Indian Tribe, and the Tlingít T'akdeintaan Clan of Hoonah, AK, may proceed after that date if no additional claimants come forward.

The University of Pennsylvania Museum of Archaeology and Anthropology is responsible for notifying the Hoonah Indian Association, a Federally-recognized Indian Tribe, and the Huna Heritage Foundation, a non-federally recognized Indian group, that this notice has been published.

Dated: December 7, 2010.
Sherry Hutt,
Manager, National NAGPRA Program.

[FR Doc. 2010-31285 Filed 12-13-10; 8:45 am]

BILLING CODE 4312-50-P